DEPARTMENT OF HEALTH AND HUMAN SERVICES

Centers for Disease Control and Prevention

Disease, Disability, and Injury Prevention and Control Special Emphasis Panel (SEP): Screening Targeted Populations To Interrupt On-going Chains of Transmission With Enhanced Partner Notification—The STOP Study, Funding Opportunity Announcement (FOA) Number PA 09-004 and Demonstration Project of Elective Adult Male Circumcision Conducted in Sexually Transmitted Disease (STD) Clinics in the United States, FOA Number PA 09-005

In accordance with Section 10(a)(2) of the Federal Advisory Committee Act (Pub. L. 92-463), the Centers for Disease Control and Prevention (CDC) announces the aforementioned meeting.

Time and Date: 8 a.m.-5 p.m., April 27, 2009 (Closed).

Place: Sheraton Gateway Hotel, Atlanta Airport, 1900 Sullivan Road, Atlanta, GA 30337, Telephone (770) 997-1100.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to “Screening Targeted Populations to Interrupt On-going Chains of Transmission with Enhanced Partner Notification—The STOP Study, FOA Number PA 09-004;” and “Demonstration Project of Elective Adult Male Circumcision Conducted in Sexually Transmitted Disease (STD) Clinics in the United States, FOA Number PA 09-005.”

Contact Person for More Information: Gregory Anderson, M.P.H., M.S., Scientific Review Administrator, Strategic Science and Program Unit, Office of the Director, Coordinating Center for Infectious Diseases, CDC, 1600 Clifton Road, Mailstop E-60, Atlanta, GA 30333, Telephone: (404) 498-2275.

The Director, Management Analysis and Services Office, has been delegated the authority to sign Federal Register notices pertaining to announcements of meetings and other committee management activities, for both CDC and the Agency for Toxic Substances and Disease Registry.

Dated: March 20, 2009.
Elaine L. Baker,
Director, Management Analysis and Services Office, Centers for Disease Control and Prevention.

[FR Doc. E9-6859 Filed 3-26-09; 8:45 am]

BILLING CODE 4163-18-P